FEDERAL MARITIME COMMISSION

Sunshine Act Meeting

AGENCY HOLDING THE MEETING: Federal Maritime Commission.

TIME AND DATE: October 19, 2016; 10:00 a.m.

PLACE: 800 N. Capitol Street NW., First Floor Hearing Room, Washington, DC.

STATUS: The first portion of the meeting will be held in Open Session; the second in Closed Session.

MATTERS TO BE CONSIDERED:

Open Session

1. Briefing by Chairman Cordero on TOC 2016 Conference.

2. Briefing on Consultative Shipping Group Meetings.

3. Briefing by Commissioner Maffei on International Maritime Organization and European Maritime Law Organisation.

Closed Session

1. Staff Briefing on Hanjin Shipping Bankruptcy and Shipping Disruptions.

2. Staff Briefing on Pending Third-Party Audit of PIERPass under the West Coast MTO Discussion Agreement (FMC Agreement 201143).

CONTACT PERSON FOR MORE INFORMATION: Rachel E. Dickon, Assistant Secretary, (202) 523-5725.

Rachel E. Dickon,
Assistant Secretary.

[FR Doc. 2016-24975 Filed 10-12-16; 11:15 am]

BILLING CODE 6731-AA-P